DEPARTMENT OF JUSTICE

Notice of Lodging of Proposed Settlement Agreement Under the Comprehensive Environmental Response, Compensation, and Liability Act and the Resource Conservation and Recovery Act

On March 12, 2014, the Department of Justice lodged a proposed Settlement Agreement with the United States Bankruptcy Court for the Southern District of New York in the bankruptcy proceeding entitled In re Eastman Kodak Company, et al., No. 12-10202 (ALG). The Settlement Agreement is conditioned on the signing of the Funding Agreement incorporated by reference therein and attached thereto as Appendix 1 and the signing of the Memorandum of Agreement to which the Settlement Agreement refers.

Under this Settlement Agreement, Eastman Kodak Company (“Kodak”) has agreed to fund a trust in the total amount of $49,000,000 to allow the New York State Department of Environmental Conservation (“DEC”) to implement environmental response actions at the 1,200-acre Eastman Business Park (“EBP”) in Monroe County, New York, and the adjacent Genesee River, to address pre-existing contamination at these locations (“EBP Environmental Response Actions”). Pursuant to the Settlement Agreement and the Funding Agreement, DEC will fund, subject to appropriations, using funds from whatever source, the cost of EBP Environmental Response Actions above $49,000,000, up to $99,000,000, and DEC and Kodak will each pay 50% of the cost of EBP Environmental Response Actions above $99,000,000.

Under the Settlement Agreement, Kodak will also allow the United States Department of Interior's (“DOI”) and DEC's overlapping bankruptcy claims for natural resource damages in connection with the Genesee River in the amount of $7,163,000. The Settlement Agreement also addresses the application and allocation of a federal income tax refund owed by the United States to Kodak as a setoff to the allowed natural resource damages claim and certain United States Environmental Protection Agency (“EPA”) claims allowed under a separate agreement.

The Settlement Agreement contains covenants not to sue Kodak from the United States on behalf of EPA under Section 107 of the Comprehensive Environmental Response, Compensation, and Liability Act, 42 U.S.C. 9607, and the Resource Conservation and Recovery Act, 42 U.S.C. 6901 et seq., except for Section 7003, 42 U.S.C. 6973, and from the United States on behalf of DOI under Section 107 of the Comprehensive Environmental Response, Compensation, and Liability Act, 42 U.S.C. 9607, with respect to the pre-existing contamination. In addition, the covenants being provided to Kodak will be extended to future transferees of property interests at EBP as long as certain conditions in the Settlement Agreement are met.

The publication of this notice opens a period for public comment on the Settlement Agreement. Comments should be addressed to the Assistant Attorney General, Environment and Natural Resources Division, and should refer to In re Eastman Kodak Company, Bankr. Case No. 12-10202 (ALG), D.J. Ref. No. 90-11-3-10545. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Settlement Agreement, the Funding Agreement, and the Memorandum of Agreement may be examined and downloaded at this Justice Department Web site: http://www.usdoj.gov/enrd/Consent_Decrees.html. We will provide a paper copy of the Settlement Agreement, the Funding Agreement, and the Memorandum of Agreement upon written request and payment of reproduction costs. Please mail your request and payment to:

Consent Decree Library, U.S. DOJ—ENRD, P.O. Box 7611, Washington, DC 20044-7611.

Please enclose a check or money order for $13.50 (25 cents per page reproduction cost) payable to the United States Treasury.

Robert E. Maher, Jr.,
Assistant Section Chief, Environmental Enforcement Section, Environment and Natural Resources Division.

[FR Doc. 2014-05815 Filed 3-17-14; 8:45 am]

BILLING CODE 4450-15-P